DEPARTMENT OF HEALTH AND HUMAN SERVICES

Centers for Disease Control and Prevention

[30Day-09-0544]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

NIOSH Customer Satisfaction Survey—Reinstatement—National Institute for Occupational Safety and Health, (NIOSH) Centers for Disease Control and Prevention, (CDC).

Background and brief description

The mission of the National Institute for Occupational Safety and Health (NIOSH) is to promote safety and health at work for all people through research and prevention. The Occupational Safety and Health Act, Public Law 91-596 (section 20[a][1]) authorizes the National Institute for Occupational Safety and Health (NIOSH) to conduct research to advance the health and safety of workers. NIOSH conducted a baseline survey in 2003 to assess customer satisfaction with NIOSH communication products, services, and methods of dissemination [OMB #0920-0544 expired 03/31/2003]. The baseline survey established an initial benchmark for gauging the effectiveness of NIOSH's communication products, outreach services, and identified areas for improvement.

NIOSH is conducting a follow-up Customer Satisfaction Survey of occupational safety and health professionals. A mail survey is planned with an option that will allow respondents to complete the survey electronically. The current survey is a 5-year follow-up designed to enable NIOSH to determine the current level of customer satisfaction and identify changes that have occurred in the intervening years. The purpose of this survey is to evaluate the effectiveness of NIOSH's communication and dissemination program as a whole in serving the broad occupational safety and health professional community by addressing five questions:

(1) To what extent are NIOSH communication products viewed as credible, useful sources of information on occupational safety and health issues?

(2) To what extent has NIOSH been successful in distributing its communication products to its primary and traditional audience?

(3) To what extent, and in what ways, have NIOSH communication products influenced workplace safety and health program policies and practices, or resolved other related issues?

(4) What improvements could be made in the nature of NIOSH communication products and/or their manner of delivery that could enhance their use and benefits?

(5) What is the reach and perceived importance of NIOSH outreach initiatives?

The survey will be directed to the community of occupational safety and health professionals, as this audience represents the primary and traditional customer base for NIOSH information materials. For this purpose four major associations identified with occupational safety and health matters have indicated their willingness to partner with NIOSH on this follow-up survey, as they did on the baseline. These are the American Industrial Hygiene Association (AIHA), the American College of Occupational and Environmental Medicine (ACOEM), the American Association of Occupational Health Nurses (AAOHN), and the American Society of Safety Engineers (ASSE). There is no cost to respondents. The estimated annualized burden hours are 205.

Estimated Annualized Burden Hours:
Form name | Type of respondent | Number of respondents | Number of responses per respondent | Average burden per response (in hours)
NIOSH Customer Satisfaction Survey | Respondents familiar with NIOSH | 570 | 1 | 20/60
| Respondents not familiar with NIOSH | 150 | 1 | 6/60

Maryam I. Daneshvar,
Acting Reports Clearance Officer, Centers for Disease Control and Prevention.

[FR Doc. E9-2005 Filed 1-29-09; 8:45 am]

BILLING CODE 4163-18-P